DEPARTMENT OF VETERANS AFFAIRS

[OMB Control No. 2900-0117]

Agency Information Collection Activities Under OMB Review

AGENCY: Office of Human Resources and Administration, Department of Veterans Affairs.

ACTION: Notice.

SUMMARY: In compliance with the Paperwork Reduction Act (PRA) of 1995 (44 U.S.C. 3501-21), this notice announces that the Office of Human Resources and Administration (OHR&A), Department of Veterans Affairs, has submitted the collection of information abstracted below to the Office of Management and Budget (OMB) for review and comment. The PRA submission describes the nature of the information collection and its expected cost and burden; it includes the actual data collection instrument.

DATES: Comments must be submitted on or before July 15, 2004.

FOR FURTHER INFORMATION OR A COPY OF THE SUBMISSION CONTACT: Denise McLamb, Records Management Service (005E3), Department of Veterans Affairs, 810 Vermont Avenue, NW., Washington, DC 20420, (202) 273-8030 or FAX (202) 273-5981 or e-mail to: denise.mclamb@mail.va.gov. Please refer to “OMB Control No. 2900-0117” in any correspondence.

Send comments and recommendations concerning any aspect of the information collection to VA's OMB Desk Officer, OMB Human Resources and Housing Branch, New Executive Office Building, Room 10235, Washington, DC 20503 (202) 395-7316. Please refer to “OMB Control No. 2900-0117” in any correspondence.

SUPPLEMENTARY INFORMATION: Title: Inquiry Concerning Application for Employment, VA Form Letter 5-127.

OMB Control Number: 2900-0117.

Type of Review: Extension of a currently approved collection.

Abstract: VA Form Letter 5-127 is used to verify qualifications of applicants for employment at the VA. This information is obtained from individuals who have knowledge of the applicants' past work record, performance, and character. VA personnel officials use the information to determine the applicant's suitability and qualifications for employment.

An agency may not conduct or sponsor, and a person is not required to respond to a collection of information unless it displays a currently valid OMB control number. The Federal Register Notice with a 60-day comment period soliciting comments on this collection of information was published on February 25, 2004, at page 8747.

Affected Public: Business or other for-profit, Individuals or households, State, Local or Tribal Government.

Estimated Annual Burden: 3,125 hours.

Estimated Average Burden Per Respondent: 15 minutes.

Frequency of Response: One-time.

Estimated Number of Respondents: 12,500.

Dated: June 2, 2004.
By direction of the Secretary.
Loise Russell,
Director, Records Management Service.

[FR Doc. 04-13437 Filed 6-14-04; 8:45 am]

BILLING CODE 8320-01-P